DEPARTMENT OF ENERGY

Federal Energy Regulatory Commission

[Project No. 4334-017]

EONY Generation Limited; Notice of Application Ready for Environmental Analysis and Soliciting Comments, Recommendations, Terms and Conditions, and Prescriptions

Take notice that the following license application has been filed with the Commission and is available for public inspection.

a. Type of Application: New Major License.

b. Project No.: P-4334-017.

c. Date filed: January 28, 2021.

d. Applicant: EONY Generation Limited (EONY).

e. Name of Project: Philadelphia Hydroelectric Project.

f. Location: On the Indian River, in the Village of Philadelphia in Jefferson County, New York. The project does not occupy any federal land.

g. Filed Pursuant to: Federal Power Act 16 U.S.C. 791(a)-825(r).

h. Applicant Contact: Franz Kropp, Director, Generation, EONY, 7659 Lyonsdale Road, Lyons Falls, NY 13368; (613) 225-0418, ext. 7498. Murray Hall, Manager, Generation, EONY, 7659 Lyonsdale Road, Lyons Falls, NY 13368; (613) 382-7312.

i. FERC Contact: Emily Carter at (202) 502-6512, or Emily.Carter@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERC.aspx. Commenters can submit brief comments up to 6,000 characters, without prior registration, using the eComment system at https://ferconline.ferc.gov/Quick.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Philadelphia Hydroelectric Project (P-4334-017).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. Project Description: The existing Philadelphia Hydroelectric Project consists of: (1) a 65-acre reservoir at a normal maximum water surface elevation of 475.4 feet; ¹ (2) two concrete dams joined by an island and designated as the east diversion dam, which is 60 feet long and 2 to 3 feet high with a crest elevation of 474.4 feet, and topped with 1.2-foot-high flashboards, and the west diversion dam, which has two sections totaling approximately 30 feet long and 10.4 feet high with a crest elevation of 475.4 feet; (3) a 45-foot-long non-overflow section that includes a reinforced concrete intake structure; (4) a 377-foot-long, 9.5-foot-diameter concrete penstock; (5) a 54.5-foot-long by 30-foot-wide reinforced concrete powerhouse; (6) one 3.645-megawatt horizontal Kaplan-type turbine-generator unit; (7) trashracks with 2.5-inch clear spacing; (8) a 4,160-volt, approximately 50-foot-long buried transmission line; (9) a switchyard; and (10) appurtenant facilities. The average annual generation was 10,092,492 kilowatt-hours for the period from 2016 to 2020.

¹ All elevations are in National Geodetic Vertical Datum of 1929.

EONY currently operates the project in run-of-river mode and discharges a minimum flow of 20 cubic feet per second (cfs) into the project's 1,250-foot-long bypassed reach to project aquatic resources.

As part of the license application, EONY filed a settlement agreement on behalf of itself, the U.S. Fish and Wildlife Service, and the New York State Department of Environmental Conservation. As part of the settlement agreement, EONY proposes to: (1) continue to operate the project in a run-of-river mode; (2) provide a minimum flow in the bypassed reach of 28 cfs; ² (3) install seasonal trashracks with 1-inch spacing; (4) implement a Trashrack Operations and Maintenance Plan, a Bat and Eagle Protection Plan, an Invasive Species Management Plan, and an Impoundment Drawdown and Cofferdam Plan; and (5) implement several improvements to an existing fishing platform to make it accessible to persons with disabilities, including the addition of an accessible parking space, an associated access aisle and access route from the accessible parking space to the fishing platform, and modifications to the railing surrounding the fishing platform.

² EONY determined that the proposed 28-cfs minimum flow would not result in incremental losses of generation compared to the current condition because the field measurement of the existing minimum flow was approximately 28 cfs, which accounted for flashboard leakage and was most likely present during the term of the existing license.

m. A copy of the application can be viewed on the Commission's website at http://www.ferc.gov using the “eLibrary” link. Enter the docket number excluding the last three digits in the docket number field to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

n. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

o. Procedural schedule: The application will be processed according to the following schedule. Revisions to the schedule will be made as appropriate.

Deadline for Filing Comments, Recommendations, and Agency Terms and Conditions/Prescriptions—September 19, 2022.

Licensee's Reply to REA Comments—November 3, 2022

p. Final amendments to the application must be filed with the Commission no later than 30 days from the issuance date of this notice.

Dated: July 21, 2022.
Debbie-Anne A. Reese,
Deputy Secretary.

[FR Doc. 2022-16115 Filed 7-26-22; 8:45 am]

BILLING CODE 6717-01-P